DEPARTMENT OF TRANSPORTATION

Federal Aviation Administration

14 CFR Part 39

[Docket No. 2003-NM-171-AD; Amendment 39-13639; AD 2004-10-09]

RIN 2120-AA64

Airworthiness Directives; BAE Systems (Operations) Limited Model BAe 146 Series Airplanes

AGENCY: Federal Aviation Administration, DOT.

ACTION: Final rule.

SUMMARY: This amendment adopts a new airworthiness directive (AD), applicable to certain BAE Systems (Operations) Limited Model BAe 146 series airplanes, that requires repetitive detailed inspections for heat damage to any in-line splice in the auxiliary power unit (APU) and integrated drive generator (IDG) feeder cable circuits, and corrective action if necessary. This AD also provides for optional terminating action for the repetitive inspections. This action is necessary to prevent overheating of the in-line splices of the APU and IDG feeder cables, which can lead to smoke, fumes, and possible fire in the flight deck and cabin. This action is intended to address the identified unsafe condition.

DATES: Effective June 25, 2004.

The incorporation by reference of a certain publication listed in the regulations is approved by the Director of the Federal Register as of June 25, 2004.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain BAE Systems (Operations) Limited Model BAe 146 series airplanes was published in the Federal Register on March 17, 2004 (69 FR 12592). That action proposed to require repetitive detailed inspections for heat damage to any in-line splice in the auxiliary power unit (APU) and integrated drive generator (IDG) feeder cable circuits, and corrective action if necessary. The proposed AD also provided for optional terminating action for the repetitive inspections.

Comments

Interested persons have been afforded an opportunity to participate in the making of this amendment. No comments were submitted in response to the proposal or the FAA's determination of the cost to the public.

Correction to Cost Information

The cost information specified in the proposed AD inadvertently contained an erroneous figure. The estimated cost of the optional terminating action was understated as “between $1,069 and $2,847 per airplane.” The cost information, below, has been revised to show the correct figure.

Conclusion

The FAA has determined that air safety and the public interest require the adoption of the rule as proposed.

Cost Impact

The FAA estimates that 17 airplanes of U.S. registry will be affected by this AD, that it will take approximately 6 work hours per airplane to accomplish the required inspections, and that the average labor rate is $65 per work hour. Based on these figures, the cost impact of the AD on U.S. operators is estimated to be $6,630, or $390 per airplane, per inspection cycle.

The optional terminating action, if done, will take approximately between 5 and 30 work hours per airplane, at an average labor rate of $65 per work hour. Required parts will cost approximately between $744 and $1,379 per airplane. Based on these figures, we estimate the cost of the optional terminating action to be between $1,069 and $3,329 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-10-09 Bae Systems (Operations) Limited (Formerly British Aerospace Regional Aircraft): Amendment 39-13639. Docket 2003-NM-171-AD.

Applicability: Model BAe 146 series airplanes, as identified in BAE Systems (Operations) Limited Inspection Service Bulletin ISB.24-139, dated April 2, 2003; certificated in any category.

Compliance: Required as indicated, unless accomplished previously.

To prevent overheating of the in-line splices of the auxiliary power unit (APU) and integrated drive generator (IDG) feeder cables, which can lead to smoke, fumes, and possible fire in the flight deck and cabin, accomplish the following:

Inspection

(a) Within 6 months after the effective date of this AD, do a detailed inspection for heat damage to any in-line splice in the APU and IDG feeder cables, per the Accomplishment Instructions of BAE Systems (Operations) Limited Inspection Service Bulletin ISB.24-139, dated April 2, 2003. If no heat damage is found, repeat the inspections thereafter at intervals not to exceed 12 months. Although the service bulletin specifies to report inspection findings to the airplane manufacturer, this AD does not include such a requirement.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(b) If any heat damage is found during any inspection done per paragraph (a) of this AD: Prior to further flight, modify the damaged in-line splices in the APU and/or IDG feeder cable circuits, per paragraph 2.F., “Terminating Action,” of the Accomplishment Instructions of BAE Systems (Operations) Limited Inspection Service Bulletin ISB.24-139, dated April 2, 2003, as applicable.

Optional Terminating Action

(c) Modifying the in-line splices in the APU and/or the IDG feeder cable circuits, per the Terminating Action instructions of the Accomplishment Instructions of BAE Systems (Operations) Limited Inspection Service Bulletin ISB.24-139, dated April 2, 2003, constitutes terminating action for this AD.

Alternative Methods of Compliance

(d) In accordance with 14 CFR 39.19, the Manager, International Branch, ANM-116, Transport Airplane Directorate, FAA, is authorized to approve alternative methods of compliance for this AD.

Incorporation by Reference

(e) The actions shall be done in accordance with BAE Systems (Operations) Limited Inspection Service Bulletin ISB.24-139, dated April 2, 2003. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 2: The subject of this AD is addressed in British airworthiness directive 005-04-2003.

Effective Date

(f) This amendment becomes effective on June 25, 2004.

Issued in Renton, Washington, on May 10, 2004.
Kalene C. Yanamura,
Acting Manager, Transport Airplane Directorate, Aircraft Certification Service.

[FR Doc. 04-11286 Filed 5-20-04; 8:45 am]

BILLING CODE 4910-13-P